DEPARTMENT OF HEALTH AND HUMAN SERVICES

Centers for Medicare & Medicaid Services

[CMS-1344-CN]

RIN 0938-AP89

Medicare Program; Inpatient Rehabilitation Facility Prospective Payment System for Federal Fiscal Year 2011; Correction

AGENCY: Centers for Medicare & Medicaid Services (CMS), HHS.

ACTION: Correction notice.

SUMMARY: This document corrects a technical error that appeared in the notice published in the July 22, 2010 Federal Register entitled, “Inpatient Rehabilitation Facility Prospective Payment System for Federal Fiscal Year 2011.”

DATES: Effective Date. This correction is effective for IRF discharges occurring on or after October 1, 2010 and on or before September 30, 2011.

FOR FURTHER INFORMATION CONTACT: Susanne Seagrave, (410) 786-0044.

SUPPLEMENTARY INFORMATION:

I. Background

In FR Doc. 2010-17621 of July 22, 2010 (75 FR 42836), there was a technical error that we are identifying and correcting in the “Correction of Errors” section below. The provisions in this correction notice are effective as if they had been included in the document published July 22, 2010. Accordingly, the corrections are effective October 1, 2010.

II. Summary of Errors

In the July 22, 2010 notice (75 FR 42836), we applied our established formula for calculating the national cost-to-charge (CCR) ceiling. Using that formula, the national CCR ceiling should have been calculated to be 1.61. It was inadvertently listed on page 42856 as 2.94 due to a calculation error. Thus, we are correcting page 42856 to reflect the correct result of the application of the established formula. The corrected national CCR ceiling is 1.61 for FY 2011.

III. Correction of Errors

In FR Doc. 2010—17621 of July 22, 2010 (75 FR 42836), make the following corrections:

1. On page 42856, in column 1, in line 23 from the top of the page, the value “2.94” is corrected to read “1.61.”

2. On page 42856, in column 1, in line 25 from the top of the page, the value “2.94” is corrected to read “1.61.”

IV. Waiver of Proposed Rulemaking and Delayed Effective Date

We ordinarily publish a notice of proposed rulemaking in the Federal Register to provide a period for public comment before the provisions of a rule take effect in accordance with section 553(b) of the Administrative Procedure Act (APA) (5 U.S.C. 553(b)). We also ordinarily provide a 30-day delay in the effective date of the provisions of a rule in accordance with section 553(d) of the APA (5 U.S.C. 553(d)). However, we can waive both notice and comment procedures and the 30-day delay in effective date if the Secretary finds, for good cause, that such procedures are impracticable, unnecessary, or contrary to the public interest, and incorporates a statement of the finding and the reasons into the notice.

The policies and payment methodology expressed in the FY 2011 IRF PPS notice (75 FR 42836) have previously been subjected to notice and comment procedures. This correction notice merely provides a technical correction to the FY 2011 notice, and does not make substantive changes to the policies or payment methodologies that were expressed in that notice. Therefore, we find it unnecessary to undertake further notice and comment procedures with respect to this correction notice. We also believe that it is in the public interest (and would be contrary to the public interest to do otherwise) to waive notice and comment procedures and the 30-day delay in effective date for this notice. This correction notice is intended to ensure that the FY 2011 IRF PPS notice accurately reflects the payment methodologies and policies expressed in the notice, and that the correct information is made available to the public. Therefore, we find good cause to waive notice and comment procedures and the 30-day delay in the effective date for this correction notice.

(Catalog of Federal Domestic Assistance Program No. 93.773, Medicare—Hospital Insurance; and Program No. 93.774, Medicare—Supplementary Medical Insurance Program)

Dated: November 9, 2010.
Dawn L. Smalls,
Executive Secretary to the Department.

[FR Doc. 2010-28814 Filed 11-15-10; 8:45 am]

BILLING CODE 4120-01-P